DEPARTMENT OF THE INTERIOR

Fish and Wildlife Service

[FWS-R4-ES-2014-N030; FXES11130900000C2-145-FF09E32000]

Endangered and Threatened Wildlife and Plants; 5-Year Status Reviews of 33 Southeastern Species

AGENCY: Fish and Wildlife Service, Interior.

ACTION: Notice of initiation of reviews; request for information.

SUMMARY: We, the U.S. Fish and Wildlife Service (Service), are initiating 5-year status reviews of 33 species under the Endangered Species Act of 1973, as amended (Act). We conduct these reviews to ensure that the classification of species as threatened or endangered on the Lists of Endangered and Threatened Wildlife and Plants is accurate. A 5-year review is an assessment of the best scientific and commercial data available at the time of the review. We are requesting submission of information that has become available since the last review of each of these species.

DATES: To allow us adequate time to conduct these reviews, we must receive your comments or information on or before May 27, 2014. However, we will continue to accept new information about any listed species at any time.

ADDRESSES: For instructions on how to submit information and review information we receive on these species, see “Request for New Information.”

FOR FURTHER INFORMATION CONTACT: For species-specific information, see “Request for New Information.”

SUPPLEMENTARY INFORMATION: Under the Act (16 U.S.C. 1531 et seq.), we maintain lists of endangered and threatened wildlife and plant species in the Code of Federal Regulations (CFR) at 50 CFR 17.11 (for wildlife) and 17.12 (for plants) (collectively referred to as the List). The List is also available on our internet site at http://www.fws.gov/endangered/species/us-species.html. Section 4(c)(2)(A) of the Act requires that we conduct a review of each listed species at least once every 5 years. Then, on the basis of such reviews, under section 4(c)(2)(B), we determine whether or not any species should be removed from the List (delisted), or reclassified from endangered to threatened or from threatened to endangered. We must support the action by the best scientific and commercial data available. In determining whether to delist a species, we must consider if these data substantiate that the species is neither endangered nor threatened for one or more of the following reasons: (1) The species is considered extinct; (2) the species is considered to be recovered; and/or (3) the original data available when the species was listed, or the interpretation of such data, were in error. Any change in Federal classification would require a separate rulemaking process. We make amendments to the List through final rules published in the Federal Register.

Our regulations at 50 CFR 424.21 require that we publish a notice in the Federal Register announcing those species currently under our active review.

Species Under Review

This notice announces our active review of 25 species that are currently listed as endangered:

Anastasia Island beach mouse (Peromyscus polionotus phasma)

Perdido Key beach mouse (Peromyscus polionotus trissyllepsis)

Southeastern beach mouse (Peromyscus polionotus niveiventris)

Puerto Rican parrot (Amazona vittata)

Cumberland elktoe (Alasmidonta atropurpurea)

Appalachian elktoe (Alasmidonta raveneliana)

Yellow blossom (Epioblasma florentina florentina)

Southern combshell (Epioblasma penita)

Green blossom (Epioblasma torulosa gubernaculum)

Tubercled blossom (Epioblasma torulosa torulosa)

Speckled pocketbook (Lampsilis streckeri)

Black clubshell (Pleurobema curtum)

Flat pigtoe (Pleurobema marshalli)

Heavy pigtoe (Pleurobema taitianum)

Stirrupshell (Quadrula stapes)

Alabama cave shrimp (Palaemonias alabamae)

Plicate rocksnail (Leptoxis plicata)

Flat pebblesnail (Lepyrium showalteri)

Cylindrical lioplax (Lioplax cyclostomaformis)

Carex lutea (golden sedge)

Conradina etonia (Etonia rosemary)

Deeringothamus rugelii (Rugel's pawpaw)

Dicerandra cornutissma (longspurred mint)

Oxypolis canbyi (Canby's dropwort)

Solidago shortii (Shorts goldenrod)

This notice also announces our active review of eight species that are currently listed as threatened:

Painted snake coiled forest snail (Anguispira picta)

Lacy elimia (Elimia crenatella)

Round rocksnail (Leptoxis ampla)

Painted rocksnail (Leptoxis taeniata)

Bonamia grandiflora (Florida bonamia)

Eriogonum longifolium var. gnapholifolium (scrub buckwheat)

Euphorbia telephioides (telephus spurge)

Ribes echinelluum (Miccosukee gooseberry)

What information do we consider in a 5-year review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

New information will be considered in the 5-year review and ongoing recovery programs for the species.

Definitions

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

What could happen as a result of this review?

If we find that there is new information concerning any of these 33 species indicating that a change in classification may be warranted, we may propose a new rule that could do one of the following: (a) Reclassify the species from endangered to threatened (downlist); (b) reclassify the species from threatened to endangered (uplist); or (c) delist the species. If we determine that a change in classification is not warranted, then the species will remain on the List under its current status.

Request for New Information

To do any of the following, contact the person associated with the species you are interested in below:

A. To get more information on a species;

B. To submit information on a species; or

C. To review information we receive, which will be available for public inspection by appointment, during normal business hours, at the listed addresses.

Mammals

• Anastasia Island beach mouse and southeastern beach mouse: North Florida Ecological Services Field Office, U.S. Fish and Wildlife Service, 7915 Baymeadows Way, Suite 200, Jacksonville, FL 32256; fax 904-731-3045. For information on these species, contact Bill Brooks at the ES Field Office (by phone at 904-731-3136 or by email at bill_brooks@fws.gov).

• Perdido Key beach mouse: Panama City Ecological Services Field Office, U.S. Fish and Wildlife Service, 1601 Balboa Ave., Panama City, FL 32405; fax 850-763-2177. For information on this species, contact Kristi Yanchis at the ES Field Office (by phone at 850-769-0552 ext. 252, or by email at kristi_yanchis@fws.gov).

Birds

• Puerto Rican parrot: Caribbean Ecological Services Field Office, U.S. Fish and Wildlife Service, Puerto Rican Parrot Recovery Program, Río Grande Station, Garcia de la Noceda Street, Local 38, 1600, Rio Grande, PR 00745; fax 787-887-7512. For information on this species, contact Marisel Lopez at the Río Grande Station (by phone at 787-887-8769 ext. 224, or by email at marisel_lopez@fws.gov).

Clams

• Cumberland elktoe: Tennessee Ecological Services Field Office, U.S. Fish and Wildlife Service, 446 Neal Street, Cookeville, TN 38501; fax 931-528-7075. For information on this species, contact Stephanie Chance at the ES Field Office (by phone at 931-528-6481 ext. 211, or by email at stephanie_chance@fws.gov).

• Appalachian elktoe: Asheville Ecological Services Field Office, U.S. Fish and Wildlife Service, 160 Zillicoa Street, Asheville, NC 28801; fax 828-258-5330. For information on this species, contact John Fridell at the ES Field Office (by phone at 828-258-3939 ext. 225, or by email at john_fridell@fws.gov).

• Southern combshell, black clubshell, flat pigtoe, heavy pigtoe, and stirrupshell: Mississippi Ecological Services Field Office, U.S. Fish and Wildlife Service, 6578 Dogwood View Parkway, Jackson, MS 39213; fax 601-965-4340. For information on these species, contact Paul Hartfield at the ES Field Office (by phone at 601-321-1125, or by email at paul_hartfield@fws.gov).

• Speckled pocketbook: Arkansas Ecological Services Field Office, U.S. Fish and Wildlife Service, 110 South Amity Road, Suite 300, Conway, AR 72032; fax 501-513-4480. For information on this species, contact Chris Davidson at the ES Field Office (by phone at 501-513-4481, or by email at chris_davidson@fws.gov).

• Yellow blossom, green blossom, tubercled blossom: Tennessee Ecological Services Field Office, U.S. Fish and Wildlife Service, 446 Neal Street, Cookeville, TN 38501; fax 931-528-7075. For information on these species, contact Peggy Shute at the ES Field Office (by phone at 931-528-6481, or by email at peggy_shute@fws.gov).

Snails and Crustaceans

• Alabama cave shrimp, plicate rocksnail, flat pebblesnail, cylindrical lioplax, lacy elimia, round rocksnail, painted rocksnail: Alabama Ecological Services Field Office, U.S. Fish and Wildlife Service, 1208-B Main Street, Daphne, AL 36526; fax 251-441-6222. For information on these species, contact Jeff Powell at the ES Field Office (by phone at 251-441-5181, or by email at jeff_powell@fws.gov).

• Painted snake coiled forest snail: Tennessee Ecological Services Field Office, U.S. Fish and Wildlife Service, 446 Neal Street, Cookeville, TN 38501; fax 931-528-7075. For information on this species, contact Geoff Call at the ES Field Office (by phone at 931-525-4983, or by email at geoff_call @fws.gov).

Plants

• Golden sedge: Raleigh Ecological Services Field Office, U.S. Fish and Wildlife Service, 551-F Pylon Drive, Raleigh, NC 27606; fax 919-856-4556. For information on this species, contact Dale Suiter at the ES Field Office (by phone at 919-856-4520, or by email at dale_suiter@fws.gov).

• Etonia rosemary, Florida bonamia, scrub buckwheat, longspurred mint, and Rugel's pawpaw: North Florida Ecological Services Field Office, U.S. Fish and Wildlife Service, 7915 Baymeadows Way, Suite 200, Jacksonville, FL 32256; fax 904-731-3045. For information on these species, contact Todd Mecklenborg at the ES Field Office (by phone at 727-892-4104, or by email at todd_mecklenborg@fws.gov).

• Canby's dropwort: Charleston Ecological Services Field Office, U.S. Fish and Wildlife Service, 176 Croghan Spur Road, Suite 200, Charleston, SC 29407; fax 843-727-4218. For information on this species, contact Jason Ayers at the ES Field Office (by phone at 843-727-4707, or by email at jason_ayers@fws.gov).

• Short's goldenrod: Kentucky Ecological Services Field Office, U.S. Fish and Wildlife Service, 330 West Broadway, Suite 365, Frankfort, KY 40601; fax 502-695-1024. For information on this species, contact Mike Floyd at the ES Field Office (by phone at 502-695-0468, or by email at mike_floyd@fws.gov).

• Miccosukee gooseberry and Telephus spurge: Panama City Ecological Services Field Office, U.S. Fish and Wildlife Service, 1601 Balboa Ave., Panama City, FL 32405; fax 850-763-2177. For information on these species, contact Vivian Negron-Ortiz at the ES Field Office (by phone at 850-769-0552 ext. 231, or by email at vivian_negronortiz@fws.gov).

We request any new information concerning the status of any of these 33 species. See “What information do we consider in a 5-year review?” heading for specific criteria. Information submitted should be supported by documentation such as maps, bibliographic references, methods used to gather and analyze the data, and/or copies of any pertinent publications, reports, or letters by knowledgeable sources.

Public Availability of Comments

Before including your address, phone number, email address, or other personal identifying information in your comment, you should be aware that the entire comment—including your personal identifying information—may be made publicly available at any time. While you can ask us in your comment to withhold your personal identifying information from public review, we cannot guarantee that we will be able to do so.

Authority

We publish this document under the authority of the Endangered Species Act (16 U.S.C. 1531 et seq.).

Dated: March 6, 2014.
Cynthia K. Dohner,
Regional Director, Southeast Region.

[FR Doc. 2014-06502 Filed 3-24-14; 8:45 am]

BILLING CODE 4310-55-P